ENVIRONMENTAL PROTECTION AGENCY

40 CFR Part 81

[EPA-HQ-OAR-2017-0548; FRL-9985-35-OAR]

RIN 2060-AU29

Air Quality Designations for the 2015 Ozone National Ambient Air Quality Standards; Corrections

AGENCY: Environmental Protection Agency (EPA).

ACTION: Correcting amendments.

SUMMARY: The Environmental Protection Agency (EPA) is correcting errors in the regulatory text regarding the designation of certain areas in nine states for the 2015 ozone national ambient air quality standards (NAAQS). The designation rules were signed by the EPA Administrator on November 6, 2017, and April 30, 2018. The errors include typographical and formatting errors and the omission from the regulatory tables of several counties designated as attainment/unclassifiable. The EPA is correcting the errors consistent with the rulemaking record. The affected areas are located in California, Illinois, Indiana, Kentucky, Michigan, Montana, Ohio, Pennsylvania and Virginia.

DATES: The effective date of this rule is November 15, 2018.

ADDRESSES: The EPA has established a docket for the designation actions for the 2015 ozone NAAQS under Docket ID No. EPA-HQ-OAR-2017-0548. All documents in the docket are listed in the index at http://www.regulations.gov. Although listed in the index, some information is not publicly available, i.e., Confidential Business Information or other information whose disclosure is restricted by statute. Certain other material, such as copyrighted material, is not placed on the internet and will be publicly available only in hard copy form. Publicly available docket materials are available either electronically in the docket or in hard copy at the EPA Docket Center, EPA WJC West Building, Room 3334, 1301 Constitution Avenue NW, Washington, DC. The Public Reading Room is open from 8:30 a.m. to 4:30 p.m., Monday through Friday, excluding legal holidays. The telephone number for the Public Reading Room is (202) 566-1744, and the telephone number for the Office of Air and Radiation Docket and Information Center is (202) 566-1742.

In addition, the EPA has established a website for the ozone designation rulemakings at https://www.epa.gov/ozone-designations. The website includes the EPA's final designations, as well as designation recommendation letters from states and tribes, the EPA's 120-letters notifying the states whether the EPA intends to modify the state's recommendation, technical support documents, responses to comments and other related technical information.

FOR FURTHER INFORMATION CONTACT: Denise Scott, Office of Air Quality Planning and Standards, U.S. Environmental Protection Agency, Mail Code C539-01, Research Triangle Park, NC 27711, phone number (919) 541-4280 or by email at: scott.denise@epa.gov.

SUPPLEMENTARY INFORMATION:

I. What are the errors being corrected?

This rule corrects errors in the regulatory text designating certain areas for the 2015 ozone NAAQS as provided in the designation rules signed by the EPA Administrator on November 6, 2017 (November 16, 2017; 82 FR 54232), and on April 30, 2018 (June 4, 2018; 83 FR 25776). The EPA is correcting the errors consistent with the rulemaking record. The affected areas are located in California, Illinois, Indiana, Kentucky, Michigan, Montana, Ohio, Pennsylvania and Virginia. The corrections for each state are discussed below and the corrected regulatory text is provided at the end of this action.

California

The EPA is correcting two errors in the regulatory table for California for designations promulgated in the April 30, 2018, ozone designations rule. The EPA is moving the entry for the “Butte County, CA” nonattainment area so that the area will be listed in alphabetical order and, thus, will be listed before the entry for the “Calaveras County, CA” nonattainment area. The EPA is also correcting a typographical error in the entry for the “Pechanga Band of Luiseño Mission Indians of the Pechanga Reservation” nonattainment area by revising “Pu'eskaMountain” to read “Pu'eska Mountain.”

Illinois

The EPA is correcting the regulatory table for Illinois to include McHenry County and Monroe County as attainment/unclassifiable areas. The EPA is adding those counties to the regulatory table, consistent with the rulemaking record for the April 30, 2018, ozone designations rule. The EPA is also moving the entry for “Bond County” so that it will be listed in alphabetical order and, thus, will be listed before the entry for “Boone County.”

McHenry County, Illinois, is part of the Chicago-Naperville, Illinois-Indiana-Wisconsin (IL-IN-WI), Combined Statistical Area (CSA).¹ The EPA's final Technical Support Document (TSD) for the Chicago-Naperville, IL-IN-WI nonattainment area states that, “EPA's area of analysis is the Chicago-Naperville, IL-IN-WI CSA, which includes the following 19 counties: Bureau, Cook, DeKalb, DuPage, Grundy, Kane, Kankakee, Kendall, Lake, LaSalle, McHenry, Putnam, and Will in Illinois, Jasper, Lake, LaPorte, Newton, and Porter in Indiana, and Kenosha in Wisconsin. The EPA applied the five factors recommended in its guidance to the area of analysis to determine the nonattainment boundary.” In the TSD section, “Conclusion for the Chicago, IL-IN-WI Area,” the EPA identified the portions of Illinois that were being designated as part of the nonattainment area and stated, “All remaining Illinois portions of the Chicago-Naperville, IL-IN-WI CSA are designated consistent with the Illinois' recommendations as attainment/unclassifiable for the 2015 ozone NAAQS: Bureau, DeKalb, Kankakee, LaSalle, McHenry, and Putnam Counties.* * *” The EPA's final TSD for the Chicago-Naperville, IL-IN-WI nonattainment area is located in the docket for the April 30, 2018, designations rule (document number EPA-HQ-OAR-2017-0548-0418) and is the key document setting forth the designations for the Chicago-Naperville, IL-IN-WI CSA.

¹ Lists of Core Based Statistical Areas and Combined Statistical Areas and their geographic components are provided at https://www.census.gov/programs-surveys/metro-micro/about/omb-bulletins.html. The Office of Management and Budget (OMB) adopts standards for defining statistical areas. The statistical areas are delineated based on United States Census Bureau data. The lists are periodically updated by the OMB. The EPA used the July 2015 update (OMB Bulletin No. 15-01), which is based on application of the 2010 OMB standards to the 2010 Census, 2006-2010 American Community Survey, as well as 2013 Population Estimates Program data.

Monroe County, Illinois, is part of the St. Louis, Missouri-Illinois (MO-IL) Core Based Statistical Area (CBSA). The EPA's final TSD for the St. Louis, MO-IL nonattainment area states, “The EPA believes that using the CBSA ² is an appropriate starting point for the contribution analysis for the St. Louis area to ensure that the nearby areas most likely to contribute to a violating area are evaluated. The area-specific analyses may support nonattainment boundaries that are smaller or larger than the CBSA. The St. Louis CBSA includes the counties of Franklin, Jefferson, Lincoln, St. Charles, and St. Louis, Warren, and the City of St. Louis, in Missouri as well as the counties of Bond, Calhoun, Clinton, Jersey, Macoupin, Madison, Monroe, and St. Clair in Illinois.” In the TSD section, “Conclusion for the St. Louis MO-IL Area,” the EPA identified the portions of Illinois that were being designated as part of the nonattainment area and stated, “The EPA is designating the remaining Franklin County, excluding Boles Township, Jefferson, Lincoln and Warren Counties in Missouri and Bond, Calhoun, Clinton, Jersey, Macoupin and Monroe Counties in Illinois as attainment/unclassifiable for the 2015 ozone NAAQS.” The EPA's final TSD for the St. Louis MO-IL Area nonattainment area is located in the docket for the April 30, 2018, designations rule (document number EPA-HQ-OAR-2017-0548-0416) and is the key document setting forth the designations for the St. Louis CBSA.

² Lists of CBSAs and CSAs and their geographic components are provided at https://www.census.gov/population/www/metroareas/metrodef.html. The OMB adopts standards for defining statistical areas. The statistical areas are delineated based on U.S. Census Bureau data. The lists are periodically updated by the OMB. The EPA used the most recent July 2015 update (OMB Bulletin No. 15-01), which is based on application of the 2010 OMB standards to the 2010 Census, 2006-2010 American Community Survey, as well as 2013 Population Estimates Program data.

Indiana

The EPA is correcting the regulatory table for Indiana to include Scott County, Union County, and Washington County as attainment/unclassifiable areas. The EPA is adding those counties to the regulatory table, consistent with the rulemaking record for the April 30, 2018, ozone designation rule.

Scott County, Indiana, and Washington County, Indiana, are part of the Louisville/Jefferson County—Elizabethtown—Madison, Kentucky-Indiana (KY-IN) CSA. The EPA's final TSD for the Louisville, KY-IN nonattainment area states that, “The area of analysis for the Louisville, KY-IN area included the Louisville/Jefferson County—Elizabethtown—Madison, KY-IN CSA. The Louisville/Jefferson County—Elizabethtown—Madison, KY-IN CSA is comprised of the following counties: Bullitt County (KY); Hardin County (KY); Henry County (KY); Jefferson County (KY); Larue County (KY); Meade County (KY); Nelson County (KY); Oldham County (KY); Shelby County (KY); Spencer County (KY); Trimble County (KY); Clark County (IN); Floyd County (IN); Harrison County (IN); Jefferson County (IN); Scott County (IN); and Washington County (IN). The EPA applied the five factors recommended in its guidance to the area of analysis to determine the nonattainment area boundary.” In the TSD section, “Conclusion for Louisville, KY-IN Area,” the EPA identified the portions of Indiana that were being designated as part of the nonattainment area and stated, “The EPA is not including the remaining analyzed counties within the nonattainment boundary of the Louisville, KY-IN nonattainment area.” The EPA's final TSD for the Louisville, KY-IN nonattainment area is located in the docket for the April 30, 2018, designations rule (document number EPA-HQ-OAR-2017-0548-0396) and is the key document setting forth the designations for the Indiana counties in the Louisville/Jefferson County—Elizabethtown—Madison, KY-IN CSA.

Union County, Indiana is part of the Cincinnati-Wilmington-Maysville, Ohio-Kentucky-Indiana (OH-KY-IN) CSA. The EPA's final TSD for Cincinnati, OH-KY-IN area states that, “For the Cincinnati area, the starting point for the analysis (the area of analysis), is the Cincinnati-Wilmington-Maysville, OH-KY-IN CSA. . . . The Cincinnati-Wilmington-Maysville, OH-KY-IN CSA includes the following counties: Dearborn County (IN), Ohio County (IN), Union County (IN), Boone County (KY), Bracken County (KY), Campbell County (KY), Gallatin County (KY), Grant County (KY), Kenton County (KY), Mason County (KY), Pendleton County (KY), Brown County (OH), Butler County (OH), Clermont County (OH), Clinton County (OH), Hamilton County (OH), and Warren County (OH). The EPA applied the five factors recommended in its guidance to the area of analysis to determine the nonattainment boundary.” In the TSD section, “Conclusion for the Cincinnati Area,” the EPA stated, “The EPA is not modifying the states' recommendations for nonattainment boundaries. Based on the assessment of factors described previously, the EPA has concluded that the following counties or portions of counties meet the CAA criteria for inclusion in the Cincinnati nonattainment area: Butler, Clermont, Hamilton and Warren in Ohio and the parts of Boone, Campbell and Kenton Counties in Kentucky identified in Kentucky's recommendation.” No Indiana counties were included in the Cincinnati nonattainment area. The EPA's final TSD for the Cincinnati, OH-KY-IN nonattainment area is located in the docket for the April 30, 2018, designations rule (document number EPA-HQ-OAR-2017-0548-0397) and is the key document setting forth the designations for the Indiana counties in the Cincinnati-Wilmington-Maysville, OH-KY-IN CSA.

In a letter from the EPA Administrator to the governor of Indiana, sent at the same time the April 30, 2018, rule was signed, the EPA identified the counties the EPA was designating as nonattainment as part of the Chicago, IL-IN-WI and Louisville, KY-IN nonattainment areas and stated that the remaining portions of Indiana, which includes Scott County, Union County and Washington County, were being designated as attainment/unclassifiable.

Kentucky

The EPA is correcting two errors in the regulatory table for Kentucky designations promulgated in the April 30, 2018, ozone designations rule. The EPA is moving the entry for “Mason County” so that it will be listed in alphabetical order and, thus, will be listed before the entry for “Meade County.” The EPA is also correcting a typographical error by revising “Larue County” to read “LaRue County.”

Michigan

The EPA is correcting three errors in the regulatory table for Michigan for designations promulgated in the April 30, 2018, ozone designations rule. In the regulatory table for Michigan, the EPA is correcting a typographical error in the boundary description for the partial Allegan County, Michigan, nonattainment area by revising “Manlus Township” to read “Manlius Township.” The EPA is moving the entry for “Alger County” so that it will be listed in alphabetical order and, thus, will be listed before the entry for “Allegan County (part) remainder.” The EPA is moving the entry for “Sanilac County” so that it will be listed in alphabetical order and, thus, will be listed before the entry for “Schoolcraft County.”

Montana

In the November 6, 2017, designations rule, the EPA regulatory table identified all the counties in Montana as a single statewide attainment/unclassifiable area. The state of Montana subsequently notified the EPA that on September 21, 2016, it had recommended the designations to be on a county-by-county basis rather than as a statewide area. In the preamble for the November 6, 2017, designations rule, the EPA stated, “The EPA is promulgating these designations for 2,649 counties including Indian Country located in those counties, two separate areas of Indian Country, and five territories without notice-and-comment, because we believe that the designations pursuant to this final action are noncontroversial and the designations are consistent with the recommendations of the states and tribes in which these counties and tribal lands are located.” The EPA is correcting the regulatory table for Montana to list each county separately with a designation of attainment/unclassifiable, consistent with Montana's September 21, 2016, recommendation.

Ohio

The EPA is correcting the regulatory table for Ohio to include Carroll County as an attainment/unclassifiable area. The EPA is adding the county to the regulatory table, consistent with the rulemaking record for the April 30, 2018, ozone designation rule.

Carroll County, Ohio, is part of the Cleveland-Akron-Canton, Ohio CSA. The EPA's final TSD for Ohio states that, “For the Cleveland area, the starting point for the area of analysis is the Cleveland-Akron-Canton, Ohio CSA which includes the following counties: Erie, Huron, Lorain, Medina, Summit, Stark, Carroll, Cuyahoga, Lake, Geauga, Portage, Ashtabula, and Tuscarawas.” In the TSD section, “Conclusion for the Cleveland Area,” the EPA stated, “After evaluating the five factors, the EPA is not modifying the State's recommendation and is designating Cuyahoga, Geauga, Lake, Lorain, Medina, Portage, and Summit Counties as the Cleveland nonattainment area for the 2015 ozone NAAQS.” The EPA's final TSD for Ohio is located in the docket for the April 30, 2018, designations rule (document number EPA-HQ-OAR-2017-0548-0381) and is the key document setting forth the designations for the counties in Ohio.

In a letter from the EPA Administrator to the governor of Ohio, sent at the same time the April 30, 2018, rule was signed, the EPA identified the counties the EPA was designating as nonattainment as part of the Cincinnati, OH-KY, Cleveland, Ohio, and Columbus, Ohio nonattainment areas and provided that the remaining portions of Ohio, which includes Carroll County, were being designated as attainment/unclassifiable.

Pennsylvania

In the April 30, 2018, designations rule, the EPA did not include Carbon, Lehigh, Monroe, Northampton and Pike Counties in the designation regulatory table for Pennsylvania. The EPA is adding those counties to the table consistent with the rulemaking record. These five counties are part of the New York-Newark, New York-New Jersey-Connecticut-Pennsylvania (NY-NJ-CT-PA) CSA. The EPA's final TSD for the New York-Northern New Jersey-Long Island, NY-NJ-CT nonattainment area states that the area of analysis is the CSA, with the additional county of Middlesex in Connecticut. The nonattainment area is also referred to as the New York Metro Nonattainment Area. In the final TSD section “Conclusion for The New York Metro Area,” the EPA states, “The counties of Dutchess, Orange, Putnam and Ulster in New York; Carbon, Lehigh, Monroe, Northampton and Pike in Pennsylvania are being excluded from the New York Metro nonattainment area. . . . .” The EPA's final TSD for New York-Northern New Jersey-Long Island, NY-NJ-CT nonattainment area is located in the docket for April 30, 2018, designation rule (document number EPA-HQ-OAR-0548-0411).

In a letter from the EPA Administrator to the governor of Pennsylvania, sent at the same time the April 30, 2018, rule was signed, the EPA summarized the portions of Pennsylvania that the agency was designating. The EPA identified the counties in Pennsylvania that were being designated as nonattainment as part of the Philadelphia-Wilmington-Atlantic City, PA-NJ-MD-DE nonattainment area and provided that the remaining portions of the state, which includes Carbon, Lehigh, Monroe, Northampton and Pike Counties, were being designated as attainment/unclassifiable.

Virginia

In the April 30, 2018, designation rule, the EPA listed two areas out of order in the designation regulatory table for Virginia. To correct the formatting error, the EPA is moving the entries for the “Fredericksburg City” and “Winchester City” attainment/unclassifiable areas to list them alphabetically with the other independent cities that are designated as attainment/unclassifiable. Thus, the “Fredericksburg City” attainment/unclassifiable area will be listed after the entry for “Franklin City” attainment/unclassifiable area and the “Winchester City” attainment/unclassifiable area will be listed after the entry for “Williamsburg City” attainment/unclassifiable area.

II. Statutory and Executive Order Reviews

A. Executive Order 12866: Regulatory Planning and Review and Executive Order 13563: Improving Regulation and Regulatory Review

This action is exempt from review by the OMB because it responds to the CAA requirement to promulgate air quality designations after promulgation of a new or revised NAAQS.

B. Executive Order 13771: Reducing Regulations and Controlling Regulatory Costs

This action is not an Executive Order 13771 regulatory action because actions such as air quality designations associated with a new or revised NAAQS are exempt from review under Executive Order 12866.

C. Paperwork Reduction Act (PRA)

This action does not impose an information collection burden under the PRA. In this action, the EPA is correcting errors in the regulatory text regarding the designation of certain areas for the 2015 ozone NAAQS consistent with the rulemaking record. This action does not contain any information collection activities.

D. Regulatory Flexibility Act (RFA)

This designation action under Clean Air Act (CAA) section 107(d) is not subject to the RFA. The RFA applies only to rules subject to notice-and-comment rulemaking requirements under the Administrative Procedure Act (APA), 5 U.S.C. 553, or any other statute. Section 107(d)(2)(B) of the CAA explicitly provides that designations are exempt from the notice-and-comment provisions of the APA. In addition, designations under CAA section 107(d) are not among the list of actions that are subject to the notice-and-comment rulemaking requirements of CAA section 307(d).

E. Unfunded Mandates Reform Act (UMRA)

This action does not contain any unfunded mandate as described in UMRA, 2 U.S.C. 1531-1538 and does not significantly or uniquely affect small governments. The action imposes no enforceable duty on any state, local or tribal governments or the private sector.

F. Executive Order 13132: Federalism

This action does not have federalism implications. It will not have substantial direct effects on the states, on the relationship between the national government and the states, or on the distribution of power and responsibilities among the various levels of government. The division of responsibility between the federal government and the states for purposes of implementing the NAAQS is established under the CAA.

G. Executive Order 13175: Consultation and Coordination With Indian Tribal Governments

This action does not have tribal implications as specified in Executive Order 13175. This action corrects errors in the regulatory tables in the ozone designation rules signed by the EPA Administrator on November 6, 2017, and April 30, 2018. The corrections are consistent with the rulemaking record. Thus, Executive Order 13175 does not apply.

H. Executive Order 13045: Protection of Children From Environmental Health and Safety Risks

The EPA interprets Executive Order 13045 as applying to those regulatory actions that concern environmental health or safety risks that the EPA has reason to believe may disproportionately affect children, per the definition of “covered regulatory action” in section 2-202 of the Executive Order. This action is not subject to Executive Order 13045 because it does not establish an environmental standard intended to mitigate health or safety risks.

I. Executive Order 13211: Actions That Significantly Affect Energy Supply, Distribution or Use

This action is not subject to Executive Order 13211 because it is not a significant regulatory action under Executive Order 12866.

J. National Technology Transfer and Advancement Act (NTTAA)

This rulemaking does not involve technical standards.

K. Executive Order 12898: Federal Actions To Address Environmental Justice in Minority Populations and Low-Income Populations

This action does not have disproportionately high and adverse human health or environmental effects on minority populations, low-income populations and/or indigenous peoples, as specified in Executive Order 12898 (59 FR 7629, February 16, 1994). This action corrects errors in the regulatory text regarding the designation of certain areas in for the 2015 ozone NAAQS. The corrections are consistent with the rulemaking record for the designation rules signed by the EPA Administrator on November 6, 2017, and April 30, 2018.

L. Congressional Review Act (CRA)

This action is subject to the CRA, and the EPA will submit a rule report to each House of the Congress and to the Comptroller General of the U.S. This action is not a “major rule” as defined by 5 U.S.C. 804(2).

List of Subjects in 40 CFR Part 81

Environmental protection, Air pollution control, National parks, Wilderness areas.

Dated: October 4, 2018.
Andrew R. Wheeler,
Acting Administrator.

For the reasons set forth in the preamble, 40 CFR part 81 is corrected as follows:

PART 81—DESIGNATIONS OF AREAS FOR AIR QUALITY PLANNING PURPOSES

1. The authority citation for part 81 continues to read as follows:

Authority: 42 U.S.C. 7401, et seq.

Subpart C—Section 107 Attainment Status Designations

§ 81.305 [Amended]

2. In § 81.305, the table titled “California—2015 8-Hour Ozone NAAQS [Primary and Secondary]” is amended by:

a. Moving the entry for “Butte County, CA” before the entry for “Calaveras County, CA”; and

b. Removing “Pu'eskaMountain” and adding in its place “Pu'eska Mountain” under the entry for “Pechanga Band of Luiseño Mission Indians of the Pechanga Reservation”.

3. In § 81.314, the table titled “Illinois—2015 8-Hour Ozone NAAQS [Primary and Secondary]” is amended by:

a. Moving the entry for “Bond County” before the entry for “Boone County”;

b. Adding an entry for “McHenry County” before the entry for “McLean County”; and

c. Adding an entry for “Monroe County” before the entry for “Montgomery County”.

The additions read as follows:

§ 81.314 Illinois.

* * * * *

Illinois—2015 8-Hour Ozone NAAQS
[Primary and Secondary]
Designated area ¹ | Designation: Date ² | Designation: Type | Classification: Date ² | Classification: Type
* * * * * * *
McHenry County |  | Attainment/Unclassifiable. |  |
* * * * * * *
Monroe County |  | Attainment/Unclassifiable. |  |
* * * * * * *
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.

* * * * *

4. In § 81.315, the table titled “Indiana—2015 8-Hour Ozone NAAQS [Primary and Secondary]” is amended by:

a. Adding an entry for “Scott County” before the entry for “Shelby County”;

b. Adding an entry for “Union County” before the entry for “Vanderburgh County”; and

c. Adding an entry for “Washington County” before the entry for “Wayne County”.

The additions read as follows:

§ 81.315 Indiana.

* * * * *

Indiana—2015 8-Hour Ozone NAAQS
[Primary and Secondary]
Designated area ¹ | Designation: Date ² | Designation: Type | Classification: Date ² | Classification: Type
* * * * * * *
Scott County |  | Attainment/Unclassifiable. |  |
* * * * * * *
Union County |  | Attainment/Unclassifiable. |  |
* * * * * * *
Washington County |  | Attainment/Unclassifiable. |  |
* * * * * * *
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.

* * * * *

§ 81.318 [Amended]

5. In § 81.318, the table titled “Kentucky—2015 8-Hour Ozone NAAQS [Primary and Secondary]” is amended by:

a. Revising the entry for “Larue County” to read “LaRue County”; and

b. Moving the entry for “Mason County” before the entry for “Meade County”.

§ 81.323 [Amended]

6. In § 81.323, the table titled “Michigan—2015 8-Hour Ozone NAAQS [Primary and Secondary]” is amended by:

a. Removing “Manlus Township” and adding in its place “Manilus Township” under the entry for “Allegan County (part)” under “Allegan County, MI”;

b. Moving the entry for “Alger County” before the entry for “Allegan County (part) remainder”; and

c. Moving the entry for “Sanilac County” before the entry for “Schoolcraft County”.

7. In § 81.327, the table titled “Montana—2015 8-Hour Ozone NAAQS [Primary and Secondary]” is revised to read as follows:

§ 81.327 Montana.

* * * * *

Montana—2015 8-Hour Ozone NAAQS
[Primary and Secondary]
Designated area ¹ | Designation: Date ² | Designation: Type | Classification: Date | Classification: Type
Beaverhead County |  | Attainment/Unclassifiable. |  |
Big Horn County |  | Attainment/Unclassifiable. |  |
Blaine County |  | Attainment/Unclassifiable. |  |
Broadwater County |  | Attainment/Unclassifiable. |  |
Carbon County |  | Attainment/Unclassifiable. |  |
Carter County |  | Attainment/Unclassifiable. |  |
Cascade County |  | Attainment/Unclassifiable. |  |
Chouteau County |  | Attainment/Unclassifiable. |  |
Custer County |  | Attainment/Unclassifiable. |  |
Daniels County |  | Attainment/Unclassifiable. |  |
Dawson County |  | Attainment/Unclassifiable. |  |
Deer Lodge County |  | Attainment/Unclassifiable. |  |
Fallon County |  | Attainment/Unclassifiable. |  |
Fergus County |  | Attainment/Unclassifiable. |  |
Flathead County |  | Attainment/Unclassifiable. |  |
Gallatin County |  | Attainment/Unclassifiable. |  |
Garfield County |  | Attainment/Unclassifiable. |  |
Glacier County |  | Attainment/Unclassifiable. |  |
Golden Valley County |  | Attainment/Unclassifiable. |  |
Granite County |  | Attainment/Unclassifiable. |  |
Hill County |  | Attainment/Unclassifiable. |  |
Jefferson County |  | Attainment/Unclassifiable. |  |
Judith Basin County |  | Attainment/Unclassifiable. |  |
Lake County |  | Attainment/Unclassifiable. |  |
Lewis and Clark County |  | Attainment/Unclassifiable. |  |
Liberty County |  | Attainment/Unclassifiable. |  |
Lincoln County |  | Attainment/Unclassifiable. |  |
McCone County |  | Attainment/Unclassifiable. |  |
Madison County |  | Attainment/Unclassifiable. |  |
Meagher County |  | Attainment/Unclassifiable. |  |
Mineral County |  | Attainment/Unclassifiable. |  |
Missoula County |  | Attainment/Unclassifiable. |  |
Musselshell County |  | Attainment/Unclassifiable. |  |
Park County |  | Attainment/Unclassifiable. |  |
Petroleum County |  | Attainment/Unclassifiable. |  |
Phillips County |  | Attainment/Unclassifiable. |  |
Pondera County |  | Attainment/Unclassifiable. |  |
Powder River County |  | Attainment/Unclassifiable. |  |
Powell County |  | Attainment/Unclassifiable. |  |
Prairie County |  | Attainment/Unclassifiable. |  |
Ravalli County |  | Attainment/Unclassifiable. |  |
Richland County |  | Attainment/Unclassifiable. |  |
Roosevelt County |  | Attainment/Unclassifiable. |  |
Rosebud County |  | Attainment/Unclassifiable. |  |
Sanders County |  | Attainment/Unclassifiable. |  |
Sheridan County |  | Attainment/Unclassifiable. |  |
Silver Bow County |  | Attainment/Unclassifiable. |  |
Stillwater County |  | Attainment/Unclassifiable. |  |
Sweet Grass County |  | Attainment/Unclassifiable. |  |
Teton County |  | Attainment/Unclassifiable. |  |
Toole County |  | Attainment/Unclassifiable. |  |
Treasure County |  | Attainment/Unclassifiable. |  |
Valley County |  | Attainment/Unclassifiable. |  |
Wheatland County |  | Attainment/Unclassifiable. |  |
Wibaux County |  | Attainment/Unclassifiable. |  |
Yellowstone County |  | Attainment/Unclassifiable. |  |
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is January 16, 2018, unless otherwise noted.

* * * * *

8. In § 81.336, the table titled “Ohio—2015 8-Hour Ozone NAAQS [Primary and Secondary]” is amended by adding an entry for “Carroll County” before the entry for “Champaign County” to read as follows:

§ 81.336 Ohio.

* * * * *

Ohio—2015 8-Hour Ozone NAAQS
[Primary and Secondary]
Designated area ¹ | Designation: Date ² | Designation: Type | Classification: Date ² | Classification: Type
* * * * * * *
Carroll County |  | Attainment/Unclassifiable. |  |
* * * * * * *
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.

* * * * *

9. In § 81.339, the table titled “Pennsylvania—2015 8-Hour Ozone NAAQS [Primary and Secondary]” is amended by:

a. Adding an entry for “Carbon County” before the entry for “Centre County”;

b. Adding an entry for “Lehigh County” before the entry for “Luzerne County”;

c. Adding an entry for “Monroe County” before the entry for “Montour County”;

d. Adding an entry for “Northampton County” before the entry for “Northumberland County”; and

e. Adding an entry for “Pike County” before the entry for “Potter County”.

The additions read as follows:

§ 81.339 Pennsylvania.

* * * * *

Pennsylvania—2015 8-Hour Ozone NAAQS
[Primary and Secondary]
Designated area ¹ | Designation: Date ² | Designation: Type | Classification: Date ² | Classification: Type
* * * * * * *
Carbon County |  | Attainment/Unclassifiable. |  |
* * * * * * *
Lehigh County |  | Attainment/Unclassifiable. |  |
* * * * * * *
Monroe County |  | Attainment/Unclassifiable. |  |
* * * * * * *
Northampton County |  | Attainment/Unclassifiable. |  |
* * * * * * *
Pike County |  | Attainment/Unclassifiable. |  |
* * * * * * *
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is August 3, 2018, unless otherwise noted.

* * * * *

§ 81.347 [Amended]

10. In § 81.347, the table titled “Virginia—2015 8-Hour Ozone NAAQS [Primary and Secondary]” is amended by:

a. Moving the entry for “Fredericksburg City” below the entry for “Franklin City”; and

b. Moving the entry for “Winchester City” below the entry for “Williamsburg City.”

[FR Doc. 2018-22396 Filed 10-15-18; 8:45 am]

BILLING CODE 6560-50-P